FEDERAL COMMUNICATIONS COMMISSION

47 CFR Part 73

[DA 04-88, MM Docket No. 01-148, RM-10141]

Digital Television Broadcast Service and Television Broadcast Service; Campbellsville and Bardstown, KY

AGENCY: Federal Communications Commission.

ACTION: Proposed rule; denied.

SUMMARY: The Commission, by this document, denies the petition for rulemaking filed by Louisville Communications, LLC, licensee of station WBKI(TV), proposing the reallottment of TV channel 34 and DTV channel 19 from Campbellsville to Bardstown, Kentucky. See 66 FR 37443, July 18, 2001. With this action, this proceeding is terminated.

FOR FURTHER INFORMATION CONTACT: Pam Blumenthal, Media Bureau, (202) 418-1600.

SUPPLEMENTARY INFORMATION: This is a synopsis of the Commission's Report and Order, MM Docket No. 01-148, adopted June 21, 2004, and released July 9, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone (202) 863-2893, facsimile (202) 863-2898, or via e-mail qualexint@aol.com. This document is not subject to the Congressional Review Act. (The Commission is, therefore, not required to submit a copy of this Report and Order to GAO, pursuant to the Congressional Review Act, see 5 U.S.C. 801(a)(1)(A), because this proposed rule is denied.)

Federal Communications Commission.
Barbara A. Kreisman,
Chief, Video Division, Media Bureau.

[FR Doc. 04-16371 Filed 7-16-04; 8:45 am]

BILLING CODE 6712-01-P